DEPARTMENT OF THE INTERIOR

Bureau of Land Management

[LLCO-921000-L51100000-GA0000-LVEMC11CC140; COC-74813]

Notice of Availability of the Environmental Assessment and Notice of Public Hearing for the Blue Mountain Energy, Inc., Federal Coal Lease Application, COC-74813

AGENCY: Bureau of Land Management, Interior.

ACTION: Notice of availability and notice of public hearing.

SUMMARY: In accordance with the Federal coal management regulations, the Blue Mountain Energy, Inc., Federal Coal Lease-By-Application (LBA) Environmental Assessment (EA) is available for public review and comment. The United States Department of the Interior, Bureau of Land Management (BLM) Colorado State Office will hold a public hearing to receive comments on the EA, Fair Market Value (FMV), and Maximum Economic Recovery (MER) of the coal resources for Blue Mountain Energy, Inc., COC-74813.

DATES: The public hearing will be held at 6 p.m., November 28, 2012. Written comments should be received no later than November 20, 2012.

ADDRESSES: The public hearing will be held at the BLM White River Field Office (BLM/WRFO) 220 East Market Street, Meeker, Colorado 81641. Written comments should be sent to Paul Daggett at the same address or sent via email to pdaggett@blm.gov. You may also send Paul Daggett a fax at 970-878-3805. Copies of the EA, unsigned Finding of No Significant Impact (FONSI) and MER report are available at the field office address above.

FOR FURTHER INFORMATION CONTACT: Kurt M. Barton at 303-239-3714, kbarton@blm.gov, or Paul Daggett at 970-878-3819, pdaggett@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: An LBA was filed by Blue Mountain Energy, Inc. The coal resource to be offered is limited to coal recoverable by underground mining methods. The Federal coal is in the lands outside established coal production regions and may supplement the reserves at the Deserado Mine. The Federal coal resources are located in Moffatt County and Rio Blanco County, Colorado.

Sixth Principal Meridian

T. 3 N., R. 101 W.,

Sec. 17, SW¼SW¼, and S½SE¼SW¼;

Sec. 18, lots 3 and 4, S½NE¼SW¼, SE¼SW¼, S½NE¼SE¼, S½NW¼SE¼, and S½SE¼;

Sec. 19, lot 1, NE¼, NE¼NW¼, N½SE¼NW¼, and S½NW¼SE¼;

Sec. 20, NE¼, N½NW¼NW¼, and N½NE¼NW¼;

Sec. 21, W½NE¼, SE¼NE¼, NW¼, and N½SE¼;

Sec. 22, S½NW¼, SE¼SW½, N½SW¼, and SE¼;

Sec. 23, S½SW¼, and S½SE¼;

Sec. 26, N½, SW¼, N½SE¼, and SW¼SE¼;

Sec. 27, E½, E½NW¼, E½SW¼, and SW¼SW¼;

Sec. 34, N½NE¼, and NW¼;

Sec. 35, NW¼NE¼, and N½NW¼.

These lands contain 3,154.76 acres, more or less.

The EA addresses the cultural, socioeconomic, environmental, and cumulative impacts that would likely result from leasing these coal lands. Two alternatives are addressed in the EA:

Alternative 1: (Proposed Action) The tracts would be leased as requested in the application; and

Alternative 2: (No Action) The application would be rejected or denied. The Federal coal reserves would be bypassed.

Proprietary data marked as confidential may be submitted to the BLM in response to this solicitation of public comments. Data so marked shall be treated in accordance with the laws and regulations governing the confidentiality of such information. A copy of the comments submitted by the public on the EA, unsigned FONSI, FMV and MER, except those portions identified as proprietary by the author and meeting exemptions stated in the Freedom of Information Act, will be available for public inspection at the BLM Colorado State Office, 2850 Youngfield Street, Lakewood, Colorado, 80215, during regular business hours (9 a.m. to 4 p.m.) Monday through Friday, excluding Federal holidays.

Comments on the EA, FMV, and MER should address, but not necessarily be limited to, the following:

1. The quality and quantity of the coal resources;

2. The method of mining to be employed to obtain MER of the coal, including specifications of the seams to be mined, timing and rate of production, restriction to mining, and the inclusion of the tracts in an existing mining operation;

3. The FMV appraisal including, but not limited to, the evaluation of the tract as an incremental unit of an existing mine, quality and quantity of the coal resource, selling price of the coal, mining and reclamation costs, net present value discount factors, depreciation and other tax accounting factors, value of the surface estate, the mining method or methods, and any comparable sales data on similar coal lands. The values given above may or may not change as a result of comments received from the public and changes in market conditions between now and when final economic evaluations are completed.

Written comments on the EA, MER, and FMV should be sent to Paul Daggett at the above address or sent via email to pdaggett@blm.gov prior to close of business November 20, 2012. Please note “Coal Lease By Application” in the subject line for all emails. Substantive comments, whether written or oral, will receive equal consideration prior to any lease offering. Before including your address, phone number, email address, or other personal identifying information in your comment, you should be aware that your entire comment—including your personal identifying information—may be made publicly available at any time. While you can ask us in your comment to withhold your personal identifying information from public review, we cannot guarantee that we will be able to do so.

The foregoing is published in the Federal Register pursuant to 43 CFR parts 3422 and 3425.

Dated: August 21, 2012.
Helen M. Hankins,
BLM Colorado State Director.

[FR Doc. 2012-25781 Filed 10-18-12; 8:45 am]

BILLING CODE 4310-JB-P